DEPARTMENT OF HEALTH AND HUMAN SERVICES

National Institutes of Health

National Institute of Dental & Craniofacial Research; Notice of Closed Meeting

Pursuant to section 10(d) of the Federal Advisory Committee Act, as amended (5 U.S.C. Appendix 2), notice is hereby given of the following meeting.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Institute of Dental & Craniofacial Research Special Emphasis Panel 04-34, Review of U54s.

Date: March 30, 2004.

Time: 12 p.m. to 1 p.m.

Agenda: To review and evaluate grant applications.

Place: National Institutes of Health, Natcher Building, 45 Center Drive, Bethesda, MD 20892. (Telephone conference call.)

Contact Person:Rebeca Roper, MS, MPH, Scientific Review Administrator,Scientific Review Branch,Division of Extramural Research, National Inst of Dental & Craniofacial Research,National Institutes of Health,45 Center Dr., room 4AN32E, Bethesda, MD 20892. 301-451-5096.

Name of Committee: National Institute of Dental and Craniofacial Special Emphasis Panel 04-45, Review Extramural Loan Repayment applications.

Date: April 14, 2004.

Time: 2 p.m. to 5 p.m.

Agenda: To review and evaluate grant applications.

Place: National Institutes of Health, Natcher Building, 45 Center Drive, Bethesda, MD 20892. (Telephone conference call.)

Contact Person:H. George Hausch, PhD, Acting Director, 45 Center Dr., Natcher Building, Rm. 4AN44F, National Institutes of Health, Bethesda, MD 20892. 301-594-2904; george_hausch@nih.gov.

(Catalogue of Federal Domestic Assistance Program Nos. 93.121, Oral Diseases and Disorders Research, National Institutes of Health, HHS)
Dated: March 8, 2004.
Anna Snouffer,
Deputy Director, Office of Federal Advisory Committee Policy.

[FR Doc. 04-5719 Filed 3-12-04; 8:45 am]

BILLING CODE 4140-01-M